DEPARTMENT OF AGRICULTURE

Forest Service

Siskiyou County Resource Advisory Committee

AGENCY: Forest Service, USDA.

ACTION: Notice of meeting.

SUMMARY: The siskiyou County Resource Advisory Committee (RAC) will meet in Yreka, California, August 20, 2007. The meeting will include routine business and a presentation on the Community Wildfire Protection Plan by the Fire Safe Council of Siskiyou County.

DATES: The meeting will be held August 20, 2007, from 4 p.m. until 5:30 p.m.

ADDRESSES: The meeting will be held at the Yreka High School Library, Preece Way, Yreka California.

FOR FURTHER INFORMATION CONTACT: Bob Talley, Forest RAC coordinator, Klamath National Forest, (530) 841-4423 or electronically at rtalley@fs.fed.us.

SUPPLEMENTARY INFORMATION: The meeting is open to the public. Public comment opportunity will be provided and individuals will have the opportunity to address the Committee at that time.

Dated: July 30, 2007.
Margaret J. Boland,
Designated Federal Official.

[FR Doc. 07-3825 Filed 8-3-07; 8:45 am]

BILLING CODE 3410-11-M